DEPARTMENT OF ENERGY

10 CFR Part 429

[EERE-2013-BT-NOC-0023]

Appliance Standards and Rulemaking Federal Advisory Committee: Notice of Open Meeting for the Commercial HVAC, WH, and Refrigeration Certification Working Group

AGENCY: Office of Energy Efficiency and Renewable Energy, U.S. Department of Energy.

ACTION: Notice of open meeting.

SUMMARY: This notice announces an open meeting of the Commercial Heating, Ventilation, and Air-conditioning (HVAC), Water Heating (WH), and Refrigeration Certification Working Group (Commercial Certification Group). The purpose of the Commercial Certification Group is to undertake a negotiated rulemaking to discuss and, if possible, reach consensus on proposed certification and compliance requirements for commercial HVAC, WH, and refrigeration equipment, as authorized by the Energy Policy and Conservation Act of 1975, as amended.

DATES: A two-day, open meeting will be held on:

Tuesday, May 14, 2013, 10 a.m.-6 p.m. (EDT) and

Wednesday, May 15, 2013, 8 a.m.-3 p.m. (EDT).

ADDRESSES: U.S. Department of Energy, Forrestal Building, Room 8E-089, 1000 Independence Avenue SW., Washington, DC 20585. Individuals will also have the opportunity to participate by webinar. To register for the webinar and receive call-in information, please register for Tuesday at https://www1.gotomeeting.com/register/877431528 and for Wednesday at https://www1.gotomeeting.com/register/300061736.

FOR FURTHER INFORMATION CONTACT: John Cymbalsky, ASRAC Designated Federal Officer, Supervisory Operations Research Analyst, U.S. Department of Energy (DOE), Office of Energy Efficiency and Renewable Energy, 950 L'Enfant Plaza SW., Washington, DC, 20024. Email: asrac@ee.doe.gov.

SUPPLEMENTARY INFORMATION: Purpose of Meeting: To provide advice and recommendations to the U.S. Department of Energy on certification and compliance requirements of commercial HVAC, WH, and refrigeration equipment under the authority of the Negotiated Rulemaking Act (5 U.S.C. 561-570, Pub. L. 104-320).

Tentative Agenda: (Subject to change):

• Finalize and vote on Working Group's ground rules;

• Finalize and vote on Working Group's scope;

• Discuss Alternative Efficiency Determination Methods (AEDM) for commercial HVAC, WH, and refrigeration equipment; and

• Discuss model groupings for determination of ratings.

Public Participation: Members of the public are welcome to observe the business of the meeting and, if time allows, may make oral statements during the specified period for public comment. To attend the meeting and/or to make oral statements regarding any of the items on the agenda, email asrac@ee.doe.gov. In the email, please indicate your name, organization (if appropriate), citizenship, and contact information. Please note that foreign nationals visiting DOE Headquarters are subject to advance security screening procedures. Any foreign national wishing to participate in the meeting should advise ASRAC staff as soon as possible by emailing asrac@ee.doe.gov to initiate the necessary procedures, no later than Wednesday, May 8, 2013. Anyone attending the meeting will be required to present a government photo identification, such as a passport, driver's license, or government identification. Due to the required security screening upon entry, individuals attending should arrive early to allow for the extra time needed.

Members of the public will be heard in the order in which they sign up for the Public Comment Period. Time allotted per speaker will depend on the number of individuals who wish to speak but will not exceed five minutes. Reasonable provision will be made to include the scheduled oral statements on the agenda. A third-party neutral facilitator will make every effort to allow the presentations of views of all interested parties and to facilitate the orderly conduct of business.

Participation in the meeting is not a prerequisite for submission of written comments. Written comments are welcome from all interested parties. Any comments submitted must identify the Commercial HVAC, WH, and Refrigeration Certification Working Group, and provide docket number EERE-2013-BT-NOC-0023. Comments may be submitted using any of the following methods:

1. Federal eRulemaking Portal: www.regulations.gov. Follow the instructions for submitting comments.

2. Email: ASRACworkgroup2013NOC0023@ee.doe.gov. Include docket number EERE-2013-BT-NOC-0023 in the subject line of the message.

3. Mail: Ms. Brenda Edwards, U.S. Department of Energy, Building Technologies Program, Mailstop EE-2J, 1000 Independence Avenue SW., Washington, DC 20585-0121. If possible, please submit all items on a compact disc (CD), in which case it is not necessary to include printed copies.

4. Hand Delivery/Courier: Ms. Brenda Edwards, U.S. Department of Energy, Building Technologies Program, 950 L'Enfant Plaza SW., Suite 600, Washington, DC 20024. Telephone: (202) 586-2945. If possible, please submit all items on a CD, in which case it is not necessary to include printed copies.

No telefacsimilies (faxes) will be accepted.

Docket: The docket is available for review at www.regulations.gov, including Federal Register notices, public meeting attendee lists and transcripts, comments, and other supporting documents/materials. All documents in the docket are listed in the www.regulations.gov index. However, not all documents listed in the index may be publicly available, such as information that is exempt from public disclosure.

The Secretary of Energy has approved publication of today's notice of open meeting.

Issued in Washington, DC, on May 7, 2013.
Kathleen B. Hogan,
Deputy Assistant Secretary for Energy Efficiency and Renewable Energy.

[FR Doc. 2013-11309 Filed 5-10-13; 8:45 am]

BILLING CODE 6450-01-P